DEPARTMENT OF ENERGY

Federal Energy Regulatory Commission

[Docket No. RP03-572-000]

Northern Natural Gas Company; Notice of Tariff Filing

August 21, 2003.

Take notice that on August 15, 2003, Northern Natural Gas Company (Northern) tendered for filing to become part of its FERC Gas Tariff, Fifth Revised Volume No. 1, Seventh Revised Sheet No. 263H, and Sixth Revised Sheet No. 263H.1, to be effective November 1, 2003.

Northern states that Seventh Revised Sheet No. 263H and Sixth Revised Sheet No. 263H.1 reflect any reallocation of the Carlton Sourcers' annual flow obligations as a result of the Appendix B customers' election to source their flow obligation at Carlton or to buyout their flow obligation. Northern further explains that this filing is made pursuant to Section 29(C)(2) of Northern's tariff.

Northern states that copies of the filing were served upon Northern's customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with ¶ 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 27, 2003.

Magalie R. Salas,
Secretary.

[FR Doc. 03-21999 Filed 8-27-03; 8:45 am]

BILLING CODE 6717-01-P